DEPARTMENT OF ENERGY

Federal Energy Regulatory Commission

Combined Notice of Filings #1

Take notice that the Commission received the following electric rate filings:

Docket Numbers: ER19-467-006.

Applicants: New York Independent System Operator, Inc.

Description: Compliance filing: Compliance: ESRs Subject to TSC, NTAC to be effective 8/26/2020.

Filed Date: 8/25/20.

Accession Number: 20200825-5136.

Comments Due: 5 p.m. ET 9/15/20.

Docket Numbers: ER20-838-004.

Applicants: Duke Energy Ohio, Inc.

Description: Tariff Amendment: DEO-AEP Request for Extention SA 1491 to be effective 12/21/2019.

Filed Date: 8/25/20.

Accession Number: 20200825-5074.

Comments Due: 5 p.m. ET 9/15/20.

Docket Numbers: ER20-2284-001.

Applicants: Southwest Power Pool, Inc.

Description: Tariff Amendment: 2900R13 Kansas Municipal Energy Agency NITSA NOA Motion for Deferral to be effective 12/31/9998.

Filed Date: 8/24/20.

Accession Number: 20200824-5215.

Comments Due: 5 p.m. ET 9/14/20.

Docket Numbers: ER20-2720-000.

Applicants: Crossover Wind LLC, Crossover Wind 2 LLC.

Description: Request for Limited Waiver of Tariff Provisions, et al. of Crossover Wind LLC, et al.

Filed Date: 8/21/20.

Accession Number: 20200821-5237.

Comments Due: 5 p.m. ET 8/31/20.

Docket Numbers: ER20-2723-000.

Applicants: Idaho Power Company.

Description: § 205(d) Rate Filing: Revised Section 4.2—Order 676-I to be effective 11/2/2020.

Filed Date: 8/24/20.

Accession Number: 20200824-5207.

Comments Due: 5 p.m. ET 9/14/20.

Docket Numbers: ER20-2724-000.

Applicants: NSTAR Electric Company.

Description: Initial rate filing: H.Q. Energy Services Tsfr of Use Rights Phase I/II HVDC Transmission Facilities to be effective 11/1/2020.

Filed Date: 8/24/20.

Accession Number: 20200824-5219.

Comments Due: 5 p.m. ET 9/14/20.

Docket Numbers: ER20-2725-000.

Applicants: Idaho Power Company.

Description: § 205(d) Rate Filing: Reinstated Language—Attachment O, Section 8 to be effective 5/26/2020.

Filed Date: 8/24/20.

Accession Number: 20200824-5235.

Comments Due: 5 p.m. ET 9/14/20.

Docket Numbers: ER20-2726-000.

Applicants: Grand Energy, LLC.

Description: Baseline eTariff Filing: Application For Market Based Rate Authority to be effective 9/1/2020.

Filed Date: 8/24/20.

Accession Number: 20200824-5245.

Comments Due: 5 p.m. ET 9/14/20

Docket Numbers: ER20-2728-000

Applicants: Americhoice Energy IL, LLC

Description: Tariff Cancellation: Cancellation of MBR Tariff to be effective 8/31/2020.

Filed Date: 8/24/20

Accession Number: 20200824-5246

Comments Due: 5 p.m. ET 9/14/20

Docket Numbers: ER20-2729-000

Applicants: Southwest Power Pool, Inc.

Description: § 205(d) Rate Filing: 3660 Solaer USA NM ACR, LLC GIA Cancellation to be effective 7/26/2020.

Filed Date: 8/25/20

Accession Number: 20200825-5022

Comments Due: 5 p.m. ET 9/15/20

Docket Numbers: ER20-2730-000

Applicants: Americhoice Energy OH, LLC

Description: Tariff Cancellation: Cancellation of MBR Tariff to be effective 8/31/2020.

Filed Date: 8/25/20.

Accession Number: 20200825-5052.

Comments Due: 5 p.m. ET 9/15/20.

Docket Numbers: ER20-2731-000.

Applicants: Americhoice Energy PA, LLC.

Description: Tariff Cancellation: Cancellation of MBR Tariff to be effective 8/31/2020.

Filed Date: 8/25/20.

Accession Number: 20200825-5054.

Comments Due: 5 p.m. ET 9/15/20.

Docket Numbers: ER20-2732-000.

Applicants: PJM Interconnection, L.L.C.

Description: Tariff Cancellation: Notice of Cancellation of WMPA, Service Agreement No. 5609; Queue No. AE1-219 to be effective 8/17/2020.

Filed Date: 8/25/20.

Accession Number: 20200825-5063.

Comments Due: 5 p.m. ET 9/15/20.

Docket Numbers: ER20-2733-000.

Applicants: Tri-State Generation and Transmission Association, Inc.

Description: Tariff Cancellation: Notice of Cancellation of Service Agreement No. 833 to be effective 7/3/2020.

Filed Date: 8/25/20.

Accession Number: 20200825-5086.

Comments Due: 5 p.m. ET 9/15/20.

Docket Numbers: ER20-2734-000.

Applicants: Alabama Power Company.

Description: Initial rate filing: Southern-FPL-Gulf Settlement Agreement Filing to be effective 7/3/2020.

Filed Date: 8/25/20.

Accession Number: 20200825-5104.

Comments Due: 5 p.m. ET 9/15/20.

Docket Numbers: ER20-2735-000.

Applicants: Georgia Power Company.

Description: Initial rate filing: Southern-FPL-Gulf Settlement Agreement Filing to be effective 7/3/2020.

Filed Date: 8/25/20.

Accession Number: 20200825-5108.

Comments Due: 5 p.m. ET 9/15/20.

Docket Numbers: ER20-2736-000.

Applicants: Mississippi Power Company.

Description: Initial rate filing: Southern-FPL-Gulf Settlement Agreement Filing to be effective 7/3/2020.

Filed Date: 8/25/20.

Accession Number: 20200825-5113.

Comments Due: 5 p.m. ET 9/15/20.

Docket Numbers: ER20-2737-000.

Applicants: PJM Interconnection, L.L.C.

Description: § 205(d) Rate Filing: Original ISA, SA 5728; Queue AF1-264; Cancel WMPA, SA 3318; Queue X3-075 to be effective 7/31/2020.

Filed Date: 8/25/20.

Accession Number: 20200825-5118.

Comments Due: 5 p.m. ET 9/15/20.

Docket Numbers: ER20-2738-000.

Applicants: PJM Interconnection, L.L.C.

Description: § 205(d) Rate Filing: Original ISA, SA 5727; Queue AF1-261; Cancel WMPA, SA 3147; Queue W4-103 to be effective 7/31/2020.

Filed Date: 8/25/20.

Accession Number: 20200825-5119.

Comments Due: 5 p.m. ET 9/15/20.

Docket Numbers: ER20-2739-000.

Applicants: Peetz Table Wind, LLC.

Description: Baseline eTariff Filing: Peetz Table Wind, LLC CFA with Logan Wind, NorCol Wind I & NorCol Wind II to be effective 9/16/2020.

Filed Date: 8/25/20.

Accession Number: 20200825-5135.

Comments Due: 5 p.m. ET 9/15/20.

Take notice that the Commission received the following electric reliability filings:

Docket Numbers: RR20-6-000.

Applicants: North American Electric Reliability Corporation.

Description: Request of North American Electric Reliability Corporation for Acceptance of its 2021 Business Plan and Budget and the 2021 Business Plans and Budgets of Regional Entities and for Approval of Proposed Assessments to Fund Budgets.

Filed Date: 8/24/20.

Accession Number: 20200824-5278.

Comments Due: 5 p.m. ET 9/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2020.
Nathaniel J. Davis, Sr.,
Deputy Secretary.

[FR Doc. 2020-19113 Filed 8-28-20; 8:45 am]

BILLING CODE 6717-01-P